DEPARTMENT OF ENERGY

Federal Energy Regulatory Commission

Combined Notice of Filings #1

September 7, 2007.

Take notice that the Commission received the following electric corporate filings:

Docket Numbers: EC07-129-000.

Applicants: Santa Rosa Energy Center, LLC.

Description: Santa Rosa Energy Center LLC submits an application for approval under section 203 of the Federal Power Act.

Filed Date: 08/31/2007.

Accession Number: 20070906-0129.

Comment Date: 5 p.m. Eastern Time on Friday, September 21, 2007.

Docket Numbers: EC07-130-000.

Applicants: Ford Motor Company, Twin Cities Hydro LLC.

Description: Ford Motor Co and Twin Cities Hydro LLC submit a joint application for authorization re a proposed transaction by which Twin Cities would acquire Ford Project 362.

Filed Date: 08/31/2007.

Accession Number: 20070906-0143.

Comment Date: 5 p.m. Eastern Time on Friday, September 21, 2007.

Take notice that the Commission received the following electric rate filings:

Docket Numbers: ER96-780-018; ER01-1633-006; ER03-1383-009; ER00-3240-009.

Applicants: Southern Company Services, Inc.

Description: Notice of Non-Material Change in Status of Southern Company Services, Inc.

Filed Date: 08/31/2007.

Accession Number: 20070831-5040.

Comment Date: 5 p.m. Eastern Time on Friday, September 21, 2007.

Docket Numbers: ER01-542-003; ER06-703-001; Er05-1218-002; Er05-1219-002; ER00-2887-005.

Applicants: STI Capital Company; Pedricktown Cogeneration Company, LP; Bayonne Plant Holding, L.L.C.; Camden Plant Holding, L.L.C.; Newark Bay Cogeneration Partnership, L.P.

Description: STI Capital Company et al. submit an amendment to the 7/16/07 notice of non-material change in status to reflect the foregoing name and corporate changes of STI etc.

Filed Date: 09/04/2007.

Accession Number: 20070906-0132.

Comment Date: 5 p.m. Eastern Time on Tuesday, September 25, 2007.

Docket Numbers: ER04-839-002.

Applicants: MAG Energy Solutions, Inc.

Description: MAG Energy Solutions, Inc. submits their Revised Based Rate Schedule to replace the Based Rate Schedule submitted on 8/3/04 etc. under ER04-839.

Filed Date: 09/04/2007.

Accession Number: 20070906-0027.

Comment Date: 5 p.m. Eastern Time on Monday, September 17, 2007.

Docket Numbers: ER07-546-003.

Applicants: ISO New England Inc.

Description: ISO New England Inc. et al. submits various Tariff and Market Rule 1 changes to comply with FERC's 4/16/07 Order.

Filed Date: 08/31/2007.

Accession Number: 20070906-0131.

Comment Date: 5 p.m. Eastern Time on Friday, September 21, 2007.

Docket Numbers: ER07-596-002.

Applicants: E.ON U.S., LLC.

Description: E.ON U.S. LLC on behalf of Louisville Gas and Electric Co and Kentucky Utilities Co submit a compliance filing incorporating the changes required in the 8/3/07 Order.

Filed Date: 09/04/2007.

Accession Number: 20070906-0042.

Comment Date: 5 p.m. Eastern Time on Tuesday, September 25, 2007.

Docket Numbers: ER07-1019-001; ER07-1020-001; ER07-1021-001.

Applicants: Niagara Mohawk Power Corporation.

Description: Niagara Mohawk Power Corporation's response to FERC's 7/31/07 letter.

Filed Date: 08/31/2007.

Accession Number: 20070907-0182.

Comment Date: 5 p.m. Eastern Time on Friday, September 21, 2007.

Docket Numbers: ER07-1237-001.

Applicants: UP Power Marketing, LLC.

Description: UP Power Marketing LLC submits FERC Electric Tariff, Original Volume No.1 revised to reflect the requirements of Order 697.

Filed Date: 09/04/2007.

Accession Number: 20070906-0043.

Comment Date: 5 p.m. Eastern Time on Tuesday, September 25, 2007.

Docket Numbers: ER07-1251-001.

Applicants: Northern Maine Independent System Administrator, Inc.

Description: Northern Maine Independent System Administrator Inc. submits amendments to certain of the Northern Maine Market Rules filed by the NMISA as Second Rate Schedule 2 on 8/3/07.

Filed Date: 08/31/2007.

Accession Number: 20070906-0130.

Comment Date: 5 p.m. Eastern Time on Friday, September 21, 2007.

Docket Numbers: ER07-1339-000; ER07-1340-000.

Applicants: Split Rock Energy LLC; Minnesota Power and Split Rock Energy LLC.

Description: Split Rock Energy LLC on behalf of Minnesota Power submits notices of cancellation for FERC Electric Tariff, First Revised Volume 1 et al.Filed Date: 09/04/2007.

Accession Number: 20070906-0052.

Comment Date: 5 p.m. Eastern Time on Tuesday, September 25, 2007.

Docket Numbers: ER07-1341-000.

Applicants: York Generation Company LLC.

Description: York Generation Co LLC submits a notice of succession reflecting the adoption of the FERC Electric Tariff, Original Volume No. 1 of STI Capital Co.

Filed Date: 09/04/2007.

Accession Number: 20070906-0051.

Comment Date: 5 p.m. Eastern Time on Tuesday, September 25, 2007.

Docket Numbers: ER07-1342-000.

Applicants: Central Vermont Public Service Corporation.

Description: Central Vermont Public Service Corp. submits a notice of termination of the Woodsville Power Sales Agreement.

Filed Date: 09/04/2007.

Accession Number: 20070906-0050.

Comment Date: 5 p.m. Eastern Time on Tuesday, September 25, 2007.

Docket Numbers: ER07-1343-000.

Applicants: State Line Energy, L.L.C.

Description: State Line Energy, LLC submits a notice of cancellation of the Power Sales Agreement with Exelon Generation Service.

Filed Date: 09/05/2007.

Accession Number: 20070906-0049.

Comment Date: 5 p.m. Eastern Time on Wednesday, September 26, 2007.

Docket Numbers: ER07-1344-000.

Applicants: Westar Energy, Inc.

Description: Westar Energy Inc. submits its Cost-Based Formula Rate Agreement for Full Requirements Electric Service.

Filed Date: 08/31/2007.

Accession Number: 20070906-0048.

Comment Date: 5 p.m. Eastern Time on Friday, September 21, 2007.

Docket Numbers: ER07-1345-000; ER07-1346-000; ER07-1347-000.

Applicants: American Electric Power Service Corp.

Description: American Electric Power Service Corp. et al. submit a notice of cancellation and revised rate schedule sheets to terminate the Interconnection Agreement.

Filed Date: 08/31/2007.

Accession Number: 20070906-0047.

Comment Date: 5 p.m. Eastern Time on Friday, September 21, 2007.

Docket Numbers: ER07-1348-000.

Applicants: American Electric Power Services Corp.

Description: AEP Texas North Co. submits a notice of cancellation of the West Texas Utilities Service Agreement 13, Tariff.

Filed Date: 09/04/2007.

Accession Number: 20070906-0046.

Comment Date: 5 p.m. Eastern Time on Tuesday, September 25, 2007.

Docket Numbers: ER07-1349-000.

Applicants: Cheyenne Light Fuel & Power Company.

Description: Cheyenne Light, Fuel and Power Co submits Rate Schedule 2 for Short-Term Sales of Test Power, to be effective 10/1/07.

Filed Date: 09/04/2007.

Accession Number: 20070906-0045.

Comment Date: 5 p.m. Eastern Time on Tuesday, September 25, 2007.

Docket Numbers: ER07-1350-000.

Applicants: PJM Interconnection, L.L.C.

Description: PJM Interconnection, LLC submits a notice of cancellation for an interconnection service agreement that has been superseded.

Filed Date: 09/04/2007.

Accession Number: 20070906-0044.

Comment Date: 5 p.m. Eastern Time on Tuesday, September 25, 2007.

Take notice that the Commission received the following electric securities filings:

Docket Numbers: ES07-46-002

Applicants: PSEG Fossil LLC

Description: Supplemental Filing of PSEG Nuclear LLC, et al.

Filed Date: 09/05/2007.

Accession Number: 20070904-5104.

Comment Date: 5 p.m. Eastern Time on Wednesday, September 26, 2007.

Docket Numbers: ES07-47-002.

Applicants: PSEG Nuclear LLC.

Description: Supplemental Filing of PSEG Nuclear LLC, et al.

Filed Date: 09/05/2007.

Accession Number: 20070904-5104.

Comment Date: 5 p.m. Eastern Time on Wednesday, September 26, 2007.

Docket Numbers: ES07-48-002.

Applicants: PSEG Energy Resources & Trade LLC.

Description: Supplemental Filing of PSEG Nuclear LLC, et al.

Filed Date: 09/05/2007.

Accession Number: 20070904-5104.

Comment Date: 5 p.m. Eastern Time on Wednesday, September 26, 2007.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov or call (866) 208-3676 (toll free). For TTY, call (202) 502-8659.

Nathaniel J. Davis, Sr.,
Acting Deputy Secretary.

[FR Doc. E7-18203 Filed 9-14-07; 8:45 am]

BILLING CODE 6717-01-P